DEPARTMENT OF ENERGY

Western Area Power Administration

Final Allocation of the Post-2004 Resource Pool-Salt Lake City Area Integrated Projects

AGENCY: Western Area Power Administration, DOE.

ACTION: Notice of final allocations.

SUMMARY: The Western Area Power Administration (Western), a Federal power marketing agency of the Department of Energy (DOE), announces its Salt Lake City Area Integrated Projects (SLCA/IP) Post-2004 Resource Pool Final Allocation of Power developed under the requirements of Subpart C-Power Marketing Initiative of the Energy Planning and Management Program (Program) Final Rule. This notice also includes Western's responses to comments on proposed allocations published June 13, 2001.

Final allocations are published to indicate Western's decisions prior to beginning the contractual phase of the process. Firm electric service contracts, negotiated between Western and allottees in this notice, will permit delivery of the allotted power from the October 2004 billing period through the September 2024 billing period.

DATES: The Post-2004 Resource Pool Final Allocation of Power will become effective March 6, 2002, and will remain in effect through September 30, 2024.

ADDRESSES: All documents developed or retained by Western in developing the final allocations are available for inspection and copying at the CRSP Management Center, 150 East Social Hall Avenue, Suite 300, Salt Lake City, UT 84111.

SUPPLEMENTARY INFORMATION: Western published Final Post-2004 Resource Pool Allocation Procedures (Procedures) in the Federal Register (64 FR 48825, September 8, 1999) to implement Subpart C-Power Marketing Initiative of the Program's Final Rule (10 CFR part 905), published in the Federal Register (60 FR 54151, October 20, 1995). The Program, developed in part to implement section 114 of the Energy Policy Act of 1992, became effective on November 20, 1995. The goal of the Program is to require planning and efficient electric energy use by Western's long-term firm power customers and to extend Western's firm power resource commitments. One aspect of the Program is to establish project-specific power resource pools and allocate power from these pools to new preference customers.

Proposed allocations were published in the Federal Register (66 FR 31910, June 13, 2001). Public information/comment forums concerning the proposed allocations were held August 10, 15, 16, 21, and October 4, 2001. The public comment period closed October 11, 2001.

The Procedures, in conjunction with the Post-1989 Marketing Plan (51 FR 4844, February 7, 1986), establish the framework for allocating power from the SLCA/IP Post-2004 Power Pool.

I. Comments and Responses

Comment: Headgate Rock Dam generation should not be considered as an offset to Federal power when calculating the allocation for the Colorado River Indian Tribes (CRIT).

Response: Western has researched the authorizing legislation for Headgate Rock Dam and electric generation facilities and agrees with this comment. The dam was built as an Indian project by the Department of the Interior for the benefit of the CRIT under the Snyder Act (25 U.S.C. 13) and will not be considered a Federal power resource.

Comment: The marketing area of the SLCA/IP was limited to Arizona, Colorado, New Mexico, Utah, and Wyoming, and parts of Nevada. Some tribes have portions of their reservations in California. These should have been considered in making allocations.

Response: Originally, the marketing area for the Colorado River Storage Project included all of the drainage area of the Colorado River. The Post-1989 Marketing Plan reduced the marketing area to Arizona, Colorado, New Mexico, Utah, Wyoming, and portions of Nevada. The current action is an extension of that marketing plan. Therefore, Western is not able to consider expanding the marketing area at this time. Any expansion of the marketing area to include portions of reservations in California is outside the scope of this effort. The portions of reservations in California are within the Parker-Davis Project marketing area. Power resource pools from these projects will be allocated effective upon expiration of existing contracts on September 30, 2008. Tribes with reservation lands and eligible loads in California may be able to participate in that process.

Comment: Allocations were not proposed for the Indian Pueblos of San Ildefonso, Santo Domingo, and Taos because their applications were not complete. They should be allowed to complete the application process and receive allocations.

Response: Western's mandate is to ensure the most widespread use of the Federal resources. Consistent with this, Western's goal was to achieve 100 percent participation by the eligible Indian tribes within the SLCA/IP marketing area. These three Pueblos along with the Moapa Band of Paiute Indians had not completed the application process and were not included in the proposed allocations. The Pueblos have now completed the application process. Allocations for these tribes are included in this notice. The Moapa Band of Paiutes has not indicated any further interest in Federal power and will not receive an allocation.

Comment: Western should closely review data submitted by tribes. The proposed allocations were based on Indian-owned loads on the reservations. Some ineligible loads may have been used in determining allocations.

Response: Western has conducted a reasonable review and verification of the Applicant Profile Data submitted by the tribes. Western believes that the tribes submitted their data in good faith and complied with the criteria. Tribes were asked to divide their commercial loads into Indian and non-Indian owned.

The allocation proposed for the Yavapai Prescott Tribe was based on a large amount of non-Indian owned commercial load on the Yavapai Prescott reservation. This was correctly identified by the Yavapai Prescott Tribe but incorrectly included by Western in determining the proposed allocation. The Tribe's allocation has been revised to base it only on allowed loads and to make it consistent with other tribes' allocations.

Comment: Because Tri-State Generation and Transmission Association (Tri-State) and Plains Electric Generation and Transmission Cooperative, Inc. (Plains) merged (in addition to the 7 percent withdrawal for the Post-2004 Power Pool), an additional 7,000 kilowatts (kW) and associated energy will be withdrawn from Tri-State. Some tribes commented that these 7,000 kW and the energy should be placed in the SLCA/IP Power Pool and allocated to the tribes.

Response: As stated in the June 13, 2001, Federal Register notice, Western's intent in withdrawing additional resources from Tri-State was to provide an allocation for Navopache Electric Cooperative (Navopache). Navopache was a member of Plains and received the benefit of Federal power through this membership. However, in the merger, Navopache chose not to become a member of Tri-State, thus losing access to Federal power. Western's intent in withdrawing an additional 7,000 kW from Tri-State was to provide an allocation to Navopache. This will enable Navopache to again receive Federal power after the merger of Tri-State and Plains eliminated its Federal power benefit. Navopache will be allocated 7,000 kW in both of the Summer and Winter seasons. It will receive 15,350,991 kilowatthours (kWh) of energy in the Summer season and 14,660,861 kWh in the Winter season.

Comment: Western should not consider the benefits of Federal power from current tribal service providers when making allocations to the tribes. In the event of the formation of a tribal utility, that power would be inaccessible to the tribes.

Response: The intent of the Program is to provide the benefits of Federal hydropower directly to individual tribes. Allocations listed in this notice will be made directly to the tribes. Any indirect Western hydroelectric benefits recognized in the calculation method were used by Western to determine a fair share for tribes at the time of allocation with no intent to create any commitment to transfer those benefits to the tribes. Any indirect Western hydroelectric benefits received by the tribes are due to contractual commitments between Western and the existing customers.

The White Mountain Apache Tribe (White Mountain) argued that since Navopache does not currently receive Federal power, indirect Federal benefits should not be considered in proposing a power allocation for White Mountain. However, Navopache will receive an allocation of SLCA/IP power at the same time that White Mountain is eligible to receive service under this proposal. Since White Mountain and its members receive electric service from Navopache, they will at that time receive indirect Federal benefits through Navopache. They were also receiving the indirect benefit of Federal power during the base year established by Western for determination of the allocations. Consistent with the methodology used for all tribes, these indirect benefits have been accounted for in the proposed allocation for White Mountain.

Comment: Several tribes commented that energy not contracted for tribes should be used to increase other tribes' allocations to reach the target of 65 percent of eligible load. On the other hand, current customers commented that energy not contractually committed to tribes should be returned to the current customers.

Response: Western's intent is to enter into contracts with all tribes and/or nations receiving an allocation prior to October 1, 2004. In the event that a contract with a tribe for its allocation is not consummated prior to this date, such tribe's allocation will be held until a contract is completed or arrangement to take delivery of the power or the benefits of the power are made. Western stated in the criteria that energy not contracted for by new customers would be returned to current customers. It is now evident that the quantity of energy not contractually committed will be so small that reallocating it would not be administratively effective. The energy will not be reallocated to other tribes or existing customers but will be made available for the use of all customers through standard terms of the firm electric service contracts.

Comment: Western's current customers commented that the firm electric service contracts with the tribes should be the same as the contracts with current customers. However, some Indian representatives commented that certain changes should be made to the General Power Contract Provisions that take into account tribal sovereignty. Underlying reserve contracts should be offered to tribes to reserve the power allocation for each tribe and would allow changes to the method of implementation. Western's Integrated Resource Planning (IRP) requirements should be useful but not burdensome to the tribes.

Response: Entering into contractual arrangements with the tribes is the next step of the resource pool allocation process. However, contractual arrangements will not begin until final allocations are completed. Contractual provisions will be consistent with Section IV of the Procedures.

Comment: Several comments were submitted concerning delivery points for Federal power.

Response: Delivery issues will be addressed after the allocation is final. Contracts for transmission service will be developed between the tribes and transmission providers. The tribes are ultimately responsible for transmission and delivery arrangements beyond the SLCA/IP Federal delivery points. However, Western will assist tribes in securing the necessary transmission or other arrangements that are necessary to ensure that they will receive the benefits of SLCA/IP power.

Comment: If changes to the proposed allocations are made, Western should publish revised proposed allocations and provide time for public review and comment.

Response: Western has made changes to the proposed allocations. However, all of the changes are the result of better information about applicants' loads and not the result of changes in criteria or policy. Western has consistently applied the criteria to all applicants in making the allocations. Allowing further public review and comment would delay further the implementation of the program and delay the offer of contracts to the tribes.

II. Amount of Pool Resources

Western will allocate to the tribes 7 percent of the SLCA/IP long-term firm hydroelectric resource available as of October 1, 2004, as firm power. Current hydrologic studies indicate that 203,251,178 kWh of energy and 93,679 kW of capacity will be available for the Summer season. In the Winter season, 217,281,509 kWh of energy and 93,680 kW of capacity will be available. Firm power means firm capacity and associated energy allocated by Western and subject to the terms and conditions specified in Western's long-term firm power electric service contracts.

Based on the applications submitted by the Northern Arapaho and the Eastern Shoshone tribes, Western could not differentiate between each tribe's load. The data from each tribe were used to arrive at a final allocation for the Wind River Reservation (Reservation) instead of each tribe. The final SLCA/IP allocation for the Reservation considers, in addition to the hydroelectric benefit from Western through the reservation's serving utility, the proposed allocation from Western's Loveland Area Projects resource pool.

III. Final Power Allocation

The following final power allocations are made in accordance with the Procedures. All of the allocations are subject to the execution of a contract in accordance with the Procedures.

The final allocations for Indian tribes and organizations are shown in this table.

Salt Lake City Area Projects Post-2004 Power Pool Final Allocations
Indian Tribes or Organizations | Summer Energy (kWh) | Winter Energy (kWh) | Summer CROD (kW) | Winter CROD (kW)
Alamo Navajo Chapter | 408,790 | 480,748 | 188 | 207
Canoncito Navajo Chapter | 299,506 | 355,370 | 138 | 153
Cocopah Indian Tribe | 2,806,867 | 2,523,150 | 1,294 | 1,088
Colorado River Indian Tribes | 13,197,379 | 8,305,968 | 6,083 | 3,581
Confederated Tribes of the Goshute Reservation | 86,101 | 149,588 | 40 | 64
Duckwater Shoshone Tribe | 151,243 | 161,901 | 70 | 70
Ely Shoshone Tribe | 170,672 | 310,489 | 79 | 134
Fort Mojave Indian Tribe | 680,593 | 775,099 | 314 | 334
Ft. McDowell Mojave-Apache Indian Community | 5,142,570 | 5,418,248 | 2,370 | 2,336
Gila River Indian Community | 30,506,505 | 31,786,232 | 14,061 | 13,704
Havasupai Tribe | 437,268 | 565,997 | 202 | 244
Hopi Tribe | 5,951,066 | 6,698,757 | 2,743 | 2,888
Hualapai Tribe | 1,372,287 | 1,455,714 | 632 | 628
Jicarilla Apache Tribe | 1,285,957 | 1,806,153 | 593 | 779
Kiabab Band of Paiute Indians | 0 | 4,515 | 0 | 2
Las Vegas Paiute Tribe | 1,578,851 | 1,246,804 | 728 | 538
Mescalero Apache Tribe | 2,164,024 | 2,432,979 | 997 | 1,049
Nambe Pueblo | 129,837 | 160,606 | 60 | 69
Navajo Tribal Utility Authority | 45,923,355 | 59,159,156 | 21,166 | 25,506
Paiute Indian Tribe of Utah | 348,269 | 371,538 | 161 | 160
Pascua Yaqui Tribe | 2,896,605 | 2,468,394 | 1,335 | 1,064
Picuris Pueblo | 167,980 | 54,273 | 77 | 23
Pueblo De Cochiti | 405,413 | 535,074 | 187 | 231
Pueblo of Acoma | 931,658 | 1,007,712 | 429 | 434
Pueblo of Isleta | 2,405,246 | 2,644,248 | 1,109 | 1,140
Pueblo of Jemez | 474,564 | 650,399 | 219 | 280
Pueblo of Laguna | 1,646,121 | 1,850,708 | 759 | 798
Pueblo of Pojoaque | 461,500 | 666,340 | 213 | 287
Pueblo of San Felipe | 718,673 | 1,004,843 | 331 | 433
Pueblo of San Ildefonso | 139,859 | 157,241 | 64 | 68
Pueblo of San Juan | 661,979 | 745,095 | 305 | 321
Pueblo of Sandia | 2,065,478 | 1,947,417 | 952 | 840
Pueblo of Santa Clara | 474,377 | 650,190 | 219 | 280
Pueblo of Santo Domingo | 989,749 | 1,044,975 | 456 | 451
Pueblo of Taos | 491,193 | 835,116 | 226 | 360
Pueblo of Tesuque | 1,375,087 | 1,426,471 | 634 | 615
Pueblo of Zia | 151,801 | 208,061 | 70 | 90
Pueblo of Zuni | 2,261,793 | 2,913,662 | 1,042 | 1,256
Quechan Indian Tribe | 1,106,528 | 1,738,295 | 510 | 749
Ramah Navajo Chapter | 665,272 | 1,012,039 | 307 | 436
Salt River Pima-Maricopa Indian Community | 35,393,766 | 31,944,155 | 16,313 | 13,773
San Carlos Apache Tribe | 8,175,836 | 8,147,557 | 3,768 | 3,513
Santa Ana Pueblo | 1,007,669 | 977,463 | 464 | 421
Skull Valley Band of Goshute Indians | 33,427 | 35,292 | 15 | 15
Southern Ute Indian Tribe | 2,489,955 | 2,886,844 | 1,148 | 1,245
Tohono O'Odham Utility Authority | 1,263,833 | 1,814,028 | 583 | 782
Tonto Apache Tribe | 837,790 | 832,681 | 386 | 359
Ute Indian Tribe | 1,013,717 | 1,692,229 | 467 | 730
Ute Mountain Ute Tribe | 1,057,428 | 1,248,391 | 487 | 538
White Mountain Apache Tribe | 12,786,934 | 14,387,553 | 5,894 | 6,203
Wind River Reservation | 1,074,186 | 1,207,269 | 495 | 521
Yavapai Apache Nation | 4,147,563 | 3,493,615 | 1,912 | 1,506
Yavapai Prescott Indian Tribe | 768,247 | 812,225 | 354 | 350
Yomba Shoshone Tribe | 68,806 | 72,645 | 32 | 31
Total | 203,251,178 | 217,281,509 | 93,679 | 93,680

The tribes' SLCA/IP allocations, combined with existing and future Western hydropower benefits, total approximately 55.7 percent of eligible load in the Summer season and 58.8 percent in the Winter season based on the adjusted seasonal energy data submitted by each tribe. The allocation process considered the current Western hydroelectric benefits received through serving utilities and future Western hydroelectric benefits that will be received by serving utilities as a result of this allocation process. The final allocations of power shown in the table are based on the SLCA/IP marketable resource currently available. If the SLCA/IP marketable resource is adjusted in the future, all allocations will be adjusted accordingly.

IV. Review Under the Regulatory Flexibility Act

The Regulatory Flexibility Act, 5 U.S.C. 601-621, requires Federal agencies to perform a regulatory flexibility analysis if a final rule is likely to have a significant economic impact on a substantial number of small entities and there is a legal requirement to issue a general notice of proposed rulemaking. Western has determined that this action does not require a regulatory flexibility analysis since it is a rulemaking of particular applicability involving rates or services applicable to public property.

V. Environmental Compliance

Western has completed an environmental impact statement on the Program, pursuant to the National Environmental Policy Act of 1969 (NEPA). The Record of Decision was published in the Federal Register (60 FR 53181, October 12, 1995). Western's NEPA review assured all environmental effects related to these procedures have been analyzed.

VI. Determination 12866

DOE has determined that this is not a significant regulatory action because it does not meet the criteria of Executive Order 12866, 58 FR 51735. Western has an exemption from centralized regulatory review under Executive Order 12866; accordingly, this notice requires no clearance by the Office of Management and Budget.

VII. Small Business Regulatory Enforcement Fairness Act

Western has determined that this rule is exempt from congressional notification requirements under 5 U.S.C. 801 because the action is a rulemaking of particular applicability relating to rates or services and involves matters of procedure.

Dated: January 17, 2002.
Michael S. Hacskaylo,
Administrator.

[FR Doc. 02-2594 Filed 2-1-02; 8:45 am]

BILLING CODE 6450-01-P